UNITED STATES DEPARTMENT OF JUSTICE

Drug Enforcement Administration

[Docket No. 24-12]

Phong H. Tran, M.D.; Decision and Order

Correction

In Notice document 2025-05526 beginning on page 14385 in the issue of Tuesday, April 1, 2025, make the following correction:

On page 14385, in the third column, on the 30th line from the top, replace “[insert date thirty days from the date of publication in the Federal Register]” with “May 1, 2025.”

[FR Doc. C1-2025-05526 Filed 4-11-25; 8:45 am]

BILLING CODE 0099-10-D